DEPARTMENT OF THE INTERIOR

Fish and Wildlife Service

[FWS-R1-FHC-2009-N0039; 81331-1334-8TWG-W4]

Trinity Adaptive Management Working Group

AGENCY: Fish and Wildlife Service, Interior.

ACTION: Notice of meeting; correction of dates.

SUMMARY: The Trinity Adaptive Management Working Group (TAMWG) affords stakeholders the opportunity to give policy, management, and technical input concerning Trinity River (California) restoration efforts to the Trinity Management Council (TMC). This notice corrects the dates for our recently announced TAMWG meeting, which is open to the public.

DATES: TAMWG will meet from 1 p.m. to 5 p.m. on Wednesday, March 18, 2009, and from 8 a.m. to 5 p.m. on Thursday, March 19, 2009.

ADDRESSES: The meeting will be held at the Weaverville Victorian Inn, 1709 Main St., 299 West, Weaverville, CA 96093.

FOR FURTHER INFORMATION CONTACT: Randy A. Brown of the U.S. Fish and Wildlife Service, 1655 Heindon Road, Arcata, CA 95521; telephone: (707) 822-7201. Randy A. Brown is the TAMWG Designated Federal Officer. For background information and questions regarding the Trinity River Restoration Program (TRRP), please contact Mike Hamman, Executive Director, Trinity River Restoration Program, P.O. Box 1300, 1313 South Main Street, Weaverville, CA 96093; telephone: (530) 623-1800; e-mail: mhamman@mp.usbr.gov.

SUPPLEMENTARY INFORMATION: Under section 10(a)(2) of the Federal Advisory Committee Act (5 U.S.C. App.), we recently announced an upcoming meeting of the TAMWG in a February 9, 2009, Federal Register notice (74 FR 6415). After publishing that notice, we have had to change the dates of this meeting. Please see the DATES section for our corrected dates.

Primary objectives and agenda items of the meeting remain the same. See 74 FR 6415 for the agenda.

Dated: February 12, 2009.
Randy A. Brown,
Designated Federal Officer, Arcata Fish and Wildlife Office, Arcata, CA.

[FR Doc. E9-3517 Filed 2-18-09; 8:45 am]

BILLING CODE 4310-55-P